DEPARTMENT OF THE INTERIOR

Bureau of Land Management

[OR-080 6350-DP; HAG 07-0-158]

Salem District Resource Advisory Committee:

Pursuant to the Federal Advisory Committee Act, the Department of the Interior Bureau of Land Management (BLM) announces the following advisory committee meeting:

Name: Salem District Resource Advisory Committee.

Time and Date: 8:30 a.m.to 4 p.m. August 16, 2007 or August 21, 2007 if needed.

Place: Salem District Office, 1717 Fabry Road SE., Salem, OR 97306.

Status: Open to the public.

Matters To Be Considered: The Resource Advisory Committee will consider proposed projects for Title II funding under section 205 of the Secure Rural Schools and Community Self Determination Act of 2000 (Pub. L. 106-393) that focus on maintaining or restoring water quality, land health, forest ecosystems, and infrastructure.

For Further Information Contact: Program information, meeting records, and a roster of committee members may be obtained from Randy Gould, Salem District Designated Official, 1717 Fabry Road, Salem, OR 97306. 503-375-5682. The meeting agenda will be posted at: http://www.blm.gov/or/districts/salem/rac when available.

Should you require reasonable accommodation, please contact the BLM Salem District 503-375-5682 as soon as possible.

Aaron Horton,
District Manager.

[FR Doc. E7-14782 Filed 7-30-07; 8:45 am]

BILLING CODE 4310-33-P